DEPARTMENT OF ENERGY

Federal Energy Regulatory Commission

[Docket No. CP01-444-000]

Calypso Pipeline, Notice of Application

September 28, 2001.

Take notice that on September 19, 2001, Calypso Pipeline, LLC (Calypso), 1400 Smith Street, Houston, Texas 77002, filed and application in the above-referenced docket number pursuant to section 3 of the Natural gas Act (NGA) and Part 153 of the Commission's Rules and Regulations, and, in addition, Calypso requests, to the extent necessary, a Presidential Permit pursuant to 18 CFR 153.15-17 and Executive Order 10485, as amended by Executive Order 12038, and Secretary of Energy Delegation Order 0204-112 for the purpose of importing and transporting natural gas from a proposed interconnection at the U.S./Bahamian Exclusive Economic Zone (EEZ) boundary with a proposed Bahamian pipeline connected to a proposed LNG terminal located in Freeport, Grand Bahama Island to markets in Florida and other states. This application will be combined with the applications filed by Calypso under Docket Numbers CP01-409-000, et al. The application is on file with the Commission and open to public inspection. This filing may be viewed on the web at http://www.ferc.gov using the “RIMS” link, select “Docket#” and follow the instructions (please call (202) 208-2222 for assistance).

The description of the proposed facilities are described in the CP01-409-000, et al. application. For purposes of Section 3 of NGA, the EEZ boundary is considered a border where the proposed facilities will be constructed. The facilities consist of 250 feet of 24-inch pipeline constructed on the seabed of the Atlantic Ocean. Calypso states that it will provide transportation service, and will not take title to gas being imported. Therefore, it states that the Department of Energy, Office of Fossil Energy import authorization is not required.

Any questions regarding the application be directed to Alice K. Weekley, Calypso Pipeline, LLC, 333 Clay Street, Suite 1800, Houston, Texas 77002, at (713) 646-7381, or at alice.weekley@enron.com.

There are two ways to become involved in the Commission's review of this project. First, any person wishing to obtain legal status by becoming a party to the proceedings for this project should, on or before October 19, 2001, file with the Federal Energy Regulatory Commission, 888 First Street, NE, Washington, D.C. 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests, and interventions may be filed electronically via the internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

Linwood A. Watson, Jr.,
Acting Secretary.

[FR Doc. 01-24891 Filed 10-3-01; 8:45 am]

BILLING CODE 6717-01-P